DEPARTMENT OF LABOR

Office of the Secretary

Submission for OMB Review: Comment Request

April 22, 2010.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employment and Training Administration (ETA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title of Collection: Work Application/Job Order Recordkeeping.

OMB Control Number: 1205-0001.

Agency Form Number: N/A.

Affected Public State, Local, or Tribal Governments.

Total Estimated Number of Respondents: 52.

Total Estimated Annual Burden Hours: 416.

Total Estimated Annual Costs Burden (Operation and Maintenance): $0.

Description: Work applications (commonly referred to as the registrations) are used in One-Stop Career Centers for individuals seeking assistance in finding employment or employability development services. They are used to collect information such as: applicants' identification, qualifications, work experience, and desired pay. They also include services provided to applicants, such as job development, referral to supportive service.

Job orders are used in One-Stop Career Centers to obtain information on employer job vacancies. Information in the job orders include employer identification, job requirements, pay information as well as identification of persons referred, hired, or refused. The information is collected at the employer's request in order to publicize job vacancies. The information is collected by One-Stop Career Centers and posted on electronic job banks. 20 CFR 652.8(d)(5) specifies the one-year retention of information on work applications and job orders. For additional information, see related notice published in the Federal Register on January 5, 2010 (75 FR 450).

Agency: Employment and Training Administration.

Type of Review: Extension without change of a currently approved collection.

Title of Collection: Benefit Rights and Experience Report.

OMB Control Number: 1205-0177.

Agency Form Number: ETA-218.

Affected Public State, Local, or Tribal Governments.

Total Estimated Number of Respondents: 53.

Total Estimated Annual Burden Hours: 108.

Total Estimated Annual Costs Burden (Operation and Maintenance): $0.

Description: The Form ETA-218 provides information used in solvency studies, in budgeting projections and for evaluation of adequacy of benefit formulas to analyze effects or proposed changes in state law. For additional information, see related notice published in the Federal Register on January 25, 2010 (75 FR 3927).

Agency: Employment and Training Administration.

Type of Review: Extension without change of a currently approved collection.

Title of Collection: Transmittal of Unemployment Insurance Materials.

OMB Control Number: 1205-0222.

Agency Form Number: MA 8-7.

Affected Public: State, Local, or Tribal Governments.

Total Estimated Number of Respondents: 53.

Total Estimated Annual Burden Hours: 11.

Total Estimated Annual Costs Burden (Operation and Maintenance): $0.

Description: Section 303(a)(6), Social Security Act, Public Law 74-271, (SSA), requires, as a condition of receiving administrative grants, that State law contain provision for the “making of such reports, in such form and containing such information, as the Secretary of Labor may from time to time require, and compliance with such provisions as the Secretary of Labor may from time to time find necessary to ensure the correctness and verification of such reports.” Departmental regulations at 20 CFR 601.3 in part implement this requirement by requiring the submission of “all relevant state materials, such as statutes, executive and administrative orders, legal opinions, rules, regulations, interpretations, court opinions, etc. * * *” Also, the regulations for the Unemployment Compensation (UC) for Federal Civilian Employees (UCFE) program at 20 CFR 609.1(d)(1) and for the UC for ex-service members (UCX) program at 20 CFR 614.1(d)(1) require submission of certain documents to assure that states are properly administering these programs. The Trade Adjustment Assistance (which includes Trade Readjustment Allowances) program (TAA/TRA) regulations provide similar requirements at 20 CFR 617.52(c)(1).

The Form MA 8-7 is the mechanism for implementing these submittal requirements, the purpose of which is to provide the Secretary with sufficient information to determine if (a) employers in a state qualify for tax credits under the Federal Unemployment Tax Act; (b) the state meets the requirements for obtaining administrative grants under Title III, SSA; and (c) the state is fulfilling it obligations under Federal UC programs. For additional information, see related notice published in the Federal Register on January 25, 2010 (75 FR 3926).

Darrin A. King,
Departmental Clearance Officer.

[FR Doc. 2010-10303 Filed 5-3-10; 8:45 am]

BILLING CODE 4510-FW-P